DEPARTMENT OF THE INTERIOR

Fish and Wildlife Service

50 CFR Part 17

[Docket No. FWS-R1-ES-2014-0061; FF09E21000 FXES11110900000 212]

Endangered and Threatened Wildlife and Plants; 12-Month Finding for the Northern Spotted Owl

AGENCY: Fish and Wildlife Service, Interior.

ACTION: Notice of 12-month finding.

SUMMARY: We, the U.S. Fish and Wildlife Service (Service), announce a 12-month finding on a petition to list the northern spotted owl (Strix occidentalis caurina) as an endangered species under the Endangered Species Act of 1973, as amended (Act). After a thorough review of the best available scientific and commercial information, we find that reclassification of the northern spotted owl from a threatened species to an endangered species is warranted but precluded by higher priority actions to amend the Lists of Endangered and Threatened Wildlife and Plants. We will develop a proposed rule to reclassify the northern spotted owl as our priorities allow. However, we ask the public to submit to us any new information relevant to the status of the subspecies or its habitat at any time.

DATES: The finding in this document was made on December 15, 2020.

ADDRESSES: A detailed description of the basis for this finding is available on the internet at http://www.regulations.gov under docket number FWS-R1-ES-2014-0061.

Supporting information used to prepare this finding is available by contacting the appropriate person as specified under FOR FURTHER INFORMATION CONTACT. Please submit any new information, materials, comments, or questions concerning this finding to the appropriate person, as specified under FOR FURTHER INFORMATION CONTACT.

FOR FURTHER INFORMATION CONTACT: Paul Henson, State Supervisor, Oregon Fish and Wildlife Office, telephone: 503-231-6179, email: paul_henson@fws.gov. If you use a telecommunications device for the deaf (TDD), please call the Federal Relay Service at 800-877-8339.

SUPPLEMENTARY INFORMATION:

Background

Under section 4(b)(3)(B) of the Act (16 U.S.C. 1531 et seq.), we are required to make a finding on whether or not a petitioned action is warranted within 12 months after receiving any petition that we have determined contains substantial scientific or commercial information indicating that the petitioned action may be warranted (“12-month finding”). We must make a finding that the petitioned action is: (1) Not warranted; (2) warranted; or (3) warranted but precluded. “Warranted but precluded” means that (a) the petitioned action is warranted, but the immediate proposal of a regulation implementing the petitioned action is precluded by other pending proposals to determine whether species are endangered or threatened species, and (b) expeditious progress is being made to add qualified species to the Lists of Endangered and Threatened Wildlife and Plants (Lists) and to remove from the Lists species for which the protections of the Act are no longer necessary. Section 4(b)(3)(C) of the Act requires that, when we find that a petitioned action is warranted but precluded, we treat the petition as though it is resubmitted on the date of such finding, that is, requiring that a subsequent finding be made within 12 months of that date. We must publish these 12-month findings in the Federal Register.

Summary of Information Pertaining to the Five Factors

Section 4 of the Act (16 U.S.C. 1533) and the implementing regulations at part 424 of title 50 of the Code of Federal Regulations (50 CFR part 424) set forth procedures for adding species to, removing species from, or reclassifying species on the Lists. The Act defines “endangered species” as any species that is in danger of extinction throughout all or a significant portion of its range (16 U.S.C. 1532(6)), and “threatened species” as any species that is likely to become an endangered species within the foreseeable future throughout all or a significant portion of its range (16 U.S.C. 1532(20)). Under section 4(a)(1) of the Act, a species may be determined to be an endangered species or a threatened species because of any of the following five factors:

(A) The present or threatened destruction, modification, or curtailment of its habitat or range;

(B) Overutilization for commercial, recreational, scientific, or educational purposes;

(C) Disease or predation;

(D) The inadequacy of existing regulatory mechanisms; or

(E) Other natural or manmade factors affecting its continued existence.

These factors represent broad categories of natural or human-caused actions or conditions that could have an effect on a species' continued existence. In evaluating these actions and conditions, we look for those that may have a negative effect on individuals of the species, as well as other actions or conditions that may ameliorate any negative effects or may have positive effects.

We use the term “threat” to refer in general to actions or conditions that are known to or are reasonably likely to negatively affect individuals of a species. The term “threat” includes actions or conditions that have a direct impact on individuals (direct impacts), as well as those that affect individuals through alteration of their habitat or required resources (stressors). The term “threat” may encompass—either together or separately—the source of the action or condition or the action or condition itself.

However, the mere identification of any threat(s) does not necessarily mean that the species meets the statutory definition of an “endangered species” or a “threatened species.” In determining whether a species meets either definition, we must evaluate all identified threats by considering the expected response by the species, and the effects of the threats—in light of those actions and conditions that will ameliorate the threats—on an individual, population, and species level. We evaluate each threat and its expected effects on the species, then analyze the cumulative effect of all of the threats on the species as a whole. We also consider the cumulative effect of the threats in light of those actions and conditions that will have positive effects on the species, such as any existing regulatory mechanisms or conservation efforts. The Secretary determines whether the species meets the definition of an “endangered species” or a “threatened species” only after conducting this cumulative analysis and describing the expected effect on the species now and in the foreseeable future.

In conducting our evaluation of the five factors provided in section 4(a)(1) of the Act to determine whether the northern spotted owl (Strix occidentalis caurina) meets the definition of an “endangered species,” we considered and thoroughly evaluated the best scientific and commercial information available regarding the past, present, and future threats to the subspecies. We reviewed the petition, information available in our files, and other available published and unpublished information. This evaluation may include information from recognized experts; Federal, State, and tribal governments; academic institutions; foreign governments; private entities; and other members of the public.

The species assessment for the northern spotted owl contains more detailed biological information, a thorough analysis of the listing factors, and an explanation of why we determined that this subspecies meets the definition of an endangered species. This supporting information can be found on the internet at http://www.regulations.gov under docket number FWS-R1-ES-2014-0061. The following is an informational summary of the finding in this document.

Previous Federal Actions

On June 26, 1990, we published in the Federal Register (55 FR 26114) a final rule listing the northern spotted owl as a threatened species. On August 21, 2012, we received a petition dated August 15, 2012, from the Environmental Protection Information Center (EPIC) requesting that the northern spotted owl be listed as an endangered species pursuant to the Act. On April 10, 2015, we published a 90-day finding (80 FR 19259), in which we announced that the petition presented substantial information indicating that reclassification may be warranted for the northern spotted owl and that our status review will also constitute our 5-year review for the northern spotted owl.

Summary of Finding

The northern spotted owl is the largest of three subspecies of spotted owls, and inhabits structurally complex forests from southwestern British Columbia through Washington and Oregon, and into northern California. The northern spotted owl is relatively long-lived, has a long reproductive life span, invests significantly in parental care, and exhibits high adult survivorship relative to other North American owls. The historical range of the northern spotted owl included most mature forests or stands throughout the Pacific Northwest, from southwestern British Columbia to as far south as Marin County, California. The current range of the northern spotted owl is smaller than the historical range, as the northern spotted owl is extirpated or very uncommon in certain areas such as southwestern Washington and British Columbia.

Habitat loss was the primary factor leading to the listing of the northern spotted owl as a threatened species, and it continues to be a stressor on the subspecies due to the lag effects of past habitat loss, continued timber harvest, wildfire, and a minor amount from insect and forest disease outbreaks. The most recent rangewide northern spotted owl demographic study (Dugger et al. 2016, entire) found that nonnative barred owls are currently the stressor with the largest negative impact on northern spotted owls through competition of resources. The study also found a significant rate of decline in northern spotted owl populations (3.8 percent per year for all study areas combined but as high as 8.4 percent per year in one study area in Washington), and the rate of decline has increased noticeably since the 2011 5-year Review for the Northern Spotted Owl (USFWS 2011b, p. 3). Populations of northern spotted owls in several long-term demographic monitoring areas have declined more than 70 percent since the early 1990s, and the extinction risk for northern spotted owl populations has increased, particularly in Washington and Oregon.

We have carefully assessed the best scientific and commercial information available regarding the past, present, and future threats to the northern spotted owl, and we evaluated all relevant factors under the five listing factors, including any regulatory mechanisms and conservation measures addressing these stressors. On non-Federal lands, State regulatory mechanisms have not prevented the continued decline of nesting/roosting and foraging habitat; the amount of northern spotted owl habitat on these lands has decreased considerably over the past two decades, including in geographic areas where Federal lands are lacking. On Federal lands, the Northwest Forest Plan has reduced habitat loss and allowed for the development of new northern spotted owl habitat; however, the combined effects of climate change, high-severity wildfire, and past management practices are changing forest ecosystem processes and dynamics, and the expansion of barred owl populations is altering the capacity of intact habitat to support northern spotted owls.

Based on our review of the best available scientific and commercial information pertaining to the factors affecting the northern spotted owl, we find that the stressors acting on the subspecies and its habitat, particularly rangewide competition from the nonnative barred owl and high-severity wildfire, are of such imminence, intensity, and magnitude to indicate that the northern spotted owl is now in danger of extinction throughout all of its range. Our status review indicates that the northern spotted owl meets the definition of an endangered species. Therefore, in accordance with sections 3(6) and 4(a)(1) of the Act, we find that listing the northern spotted owl as an endangered species is warranted throughout all of its range. However, work on a reclassification for the northern spotted owl has been, and continues to be, precluded by work on higher-priority actions—which includes listing actions with statutory, court-ordered, or court-approved deadlines and final listing determinations. This work includes all the actions listed in the National Listing Workplan discussed below under Preclusion and in the tables below under Expeditious Progress, as well as other actions at various stages of completion, such as 90-day findings for new petitions.

Preclusion and Expeditious Progress

To make a finding that a particular action is warranted but precluded, the Service must make two determinations: (1) That the immediate proposal and timely promulgation of a final regulation is precluded by pending proposals to determine whether any species is endangered or threatened; and (2) that expeditious progress is being made to add qualified species to either of the Lists and to remove species from the Lists (16 U.S.C. 1533(b)(3)(B)(iii)).

Preclusion

A listing proposal is precluded if the Service does not have sufficient resources available to complete the proposal, because there are competing demands for those resources, and the relative priority of those competing demands is higher. Thus, in any given fiscal year (FY), multiple factors dictate whether it will be possible to undertake work on a proposed listing regulation or whether promulgation of such a proposal is precluded by higher priority listing actions—(1) The amount of resources available for completing the listing function, (2) the estimated cost of completing the proposed listing regulation, and (3) the Service's workload, along with the Service's prioritization of the proposed listing regulation, in relation to other actions in its workload.

Available Resources

The resources available for listing actions are determined through the annual Congressional appropriations process. In FY 1998 and for each fiscal year since then, Congress has placed a statutory cap on funds that may be expended for the Listing Program (spending cap). This spending cap was designed to prevent the listing function from depleting funds needed for other functions under the Act (for example, recovery functions, such as removing species from the Lists), or for other Service programs (see House Report 105-163, 105th Congress, 1st Session, July 1, 1997). The funds within the spending cap are available to support work involving the following listing actions: Proposed and final rules to add species to the Lists or to change the status of species from threatened to endangered; 90-day and 12-month findings on petitions to add species to the Lists or to change the status of a species from threatened to endangered; annual “resubmitted” petition findings on prior warranted-but-precluded petition findings as required under section 4(b)(3)(C)(i) of the Act; critical habitat petition findings; proposed rules designating critical habitat or final critical habitat determinations; and litigation-related, administrative, and program-management functions (including preparing and allocating budgets, responding to Congressional and public inquiries, and conducting public outreach regarding listing and critical habitat).

For more than two decades the size and cost of the workload in these categories of actions have far exceeded the amount of funding available to the Service under the spending cap for completing listing and critical habitat actions under the Act. Since we cannot exceed the spending cap without violating the Anti-Deficiency Act (31 U.S.C. 1341(a)(1)(A)), each year we have been compelled to determine that work on at least some actions was precluded by work on higher-priority actions. We make our determinations of preclusion on a nationwide basis to ensure that the species most in need of listing will be addressed first, and because we allocate our listing budget on a nationwide basis. Through the listing cap and the amount of funds needed to complete court-mandated actions within the cap, Congress and the courts have in effect determined the amount of money remaining (after completing court-mandated actions) for listing activities nationwide. Therefore, the funds that remain within the listing cap—after paying for work needed to comply with court orders or court-approved settlement agreements—set the framework within which we make our determinations of preclusion and expeditious progress.

For FY 2019, through the Consolidated Appropriations Act of 2019, (Pub. L. 116-6, February 15, 2019), Congress appropriated the Service $18,318,000 under a consolidated cap for all domestic and foreign listing work, including status assessments, listings, domestic critical habitat determinations, and related activities. For FY 2020, through the Further Consolidated Appropriations Act, 2020 (Pub. L. 116-94, December 20, 2019), Congress appropriated $20,318,000 for all domestic and foreign listing work. The amount of funding Congress will appropriate in future years is uncertain.

Costs of Listing Actions

The work involved in preparing various listing documents can be extensive, and may include, but is not limited to: Gathering and assessing the best scientific and commercial data available and conducting analyses used as the basis for our decisions; writing and publishing documents; and obtaining, reviewing, and evaluating public comments and peer-review comments on proposed rules and incorporating relevant information from those comments into final rules. The number of listing actions that we can undertake in a given year also is influenced by the complexity of those listing actions; that is, more complex actions generally are more costly. Our practice of proposing to designate critical habitat concurrent with listing species requires additional coordination and an analysis of the economic impacts of the designation, and thus adds to the complexity and cost of our work. Since completing all of the work for outstanding listing and critical habitat actions has for so long required more funding than has been available within the spending cap, the Service has developed several ways to determine the relative priorities of the actions within its workload to identify the work it can complete with the funding it has available for listing and critical habitat actions each year.

Prioritizing Listing Actions

The Service's Listing Program workload is broadly composed of four types of actions, which the Service prioritizes as follows: (1) Compliance with court orders and court-approved settlement agreements requiring that petition findings or listing or critical habitat determinations be completed by a specific date; (2) essential litigation-related, administrative, and listing program-management functions; (3) section 4 (of the Act) listing and critical habitat actions with absolute statutory deadlines; and (4) section 4 listing actions that do not have absolute statutory deadlines.

In previous years, the Service received many new petitions, including multiple petitions to list numerous species—a single petition even sought to list 404 domestic species. The emphasis that petitioners placed on seeking listing for hundreds of species at a time through the petition process significantly increased the number of actions within the third category of our workload—actions that have absolute statutory deadlines for making findings on those petitions. In addition, the necessity of dedicating all of the Listing Program funding towards determining the status of 251 candidate species and complying with other court-ordered requirements between 2011 and 2016 added to the number of petition findings awaiting action. Because we are not able to work on all of these at once, the Service's most recent effort to prioritize its workload focuses on addressing the backlog in petition findings that has resulted from the influx of large multi-species petitions and the 5-year period in which the Service was compelled to suspend making 12-month findings for most of those petitions. The number of petitions that are awaiting status reviews and accompanying 12-month findings illustrates the considerable extent of this backlog: As a result of the outstanding petitions to list hundreds of species, and our efforts to make initial petition findings within 90 days of receiving the petition to the maximum extent practicable, at the beginning of FY 2020 we had 422 12-month petition findings for domestic species yet to be initiated and completed.

To determine the relative priorities of the outstanding 12-month petition findings, the Service developed a prioritization methodology (methodology) (81 FR 49248; July 27, 2016), after providing the public with notice and an opportunity to comment on the draft methodology (81 FR 2229; January 15, 2016). Under the methodology, we assign each 12-month finding to one of five priority bins: (1) The species is critically imperiled; (2) strong data are already available about the status of the species; (3) new science is underway that would inform key uncertainties about the status of the species; (4) conservation efforts are in development or underway and likely to address the status of the species; or (5) the available data on the species are limited. As a general rule, 12-month findings with a lower bin number have a higher priority than, and are scheduled before, 12-month findings with a higher bin number. However, we make some exceptions—for example, we may schedule a lower-priority finding earlier if batching it with a higher-priority finding would generate efficiencies. We may also consider where there are any special circumstances that affect the timing for completion of an action. One circumstance that might result in divergence from priority order is when the current highest priorities are clustered in a geographic area, such that the field office where the highest-priority work is clustered has reached capacity; in such a circumstance, other field offices would continue to work on their highest-priority actions even if those actions are relatively lower in priority than the previously mentioned at-capacity field office. In other words, we recognize that the geographic distribution of our scientific expertise will in some cases require us to balance workload across geographic areas. This approach also results in efficiencies from having listing work completed by biologists in the field office who have the scientific expertise on the ecosystems, species, and threats within that geographic area. Since before Congress first established the spending cap for the Listing Program in 1998, the Listing Program workload has required considerably more resources than the amount of funds Congress has allowed for the Listing Program. Therefore, it is important that we be as efficient as possible in our listing process.

After finalizing the prioritization methodology, we then applied that methodology to develop a multi-year National Listing Workplan (Workplan) for completing the outstanding status assessments and accompanying 12-month findings. The purpose of the Workplan is provide transparency and predictability to the public about when the Service anticipates completing specific 12-month findings while allowing for flexibility to update the Workplan when new information changes the priorities. In May 2019, the Service released its updated Workplan for addressing the Act's domestic listing and critical habitat decisions over the subsequent 5 years. The updated Workplan identified the Service's schedule for addressing all domestic species on the candidate list and conducting 267 status reviews and accompanying 12-month findings by FY 2023 for domestic species that have been petitioned for Federal protections under the Act. As we implement our Workplan and work on proposed rules for the highest-priority species, we increase efficiency by preparing multi-species proposals when appropriate, and these may include species with lower priority if they overlap geographically or have the same threats as one of the highest-priority species. The National Listing Workplan is available online at: https://www.fws.gov/endangered/what-we-do/listing-workplan.html.

An additional way in which we determine relative priorities of outstanding actions in the section 4 program is application of the listing priority guidelines (48 FR 43098; September 21, 1983). Under those guidelines, which apply primarily to candidate species, we assign each candidate a listing priority number (LPN) of 1 to 12, depending on the magnitude of threats (high or moderate to low), immediacy of threats (imminent or nonimminent), and taxonomic status of the species (in order of priority: Monotypic genus (a species that is the sole member of a genus), a species, or a part of a species (subspecies or distinct population segment)). The lower the listing priority number, the higher the listing priority (that is, a species with an LPN of 1 would have the highest listing priority). A species with a higher LPN would generally be precluded from listing by species with lower LPNs, unless work on a proposed rule for the species with the higher LPN can be combined for efficiency with work on a proposed rule for other high-priority species.

Finally, proposed rules for reclassification of threatened species status to endangered species status are generally lower in priority because, as listed species, they are already afforded the protections of the Act and implementing regulations. However, for efficiency reasons, we may choose to work on a proposed rule to reclassify a species to endangered species status if we can combine this with higher-priority work.

Based on our listing priority system, we are assigning an LPN of 3 to this reclassification of the northern spotted owl. This priority number indicates the magnitude of threat is high and those threats are imminent. As explained above, proposed rules to reclassify threatened species to endangered species status are a lower priority than listing currently unprotected species, so listing a candidate species with a higher LPN number would generally be a higher priority action than reclassification of an already listed species such as the northern spotted owl. As such, we will continue to monitor the threats to the northern spotted owl and the subspecies' status on an annual basis, and should the magnitude or the imminence of the threats change, we will revisit our assessment of the LPN.

Listing Program Workload

The National Listing Workplan that the Service released in 2019 outlined work for domestic species over the period from 2019 to 2023. Tables 1 and 2 under Expeditious Progress, below, identify the higher-priority listing actions that we completed through FY 2020 (September 30, 2020), as well as those we have been working on in FY 2020 but have not yet completed. For FY 2020, our National Listing Workplan includes 74 12-month findings or proposed listing actions that are at various stages of completion at the time of this finding. In addition to the actions scheduled in the National Listing Workplan, the overall Listing Program workload also includes the development and revision of listing regulations that are required by new court orders or settlement agreements, or to address the repercussions of any new court decisions, as well as proposed and final critical habitat designations or revisions for species that have already been listed. The Service's highest priorities for spending its funding in FY 2019 and FY 2020 are actions included in the Workplan and actions required to address court decisions. As described in “Prioritizing Listing Actions,” above, reclassification of the northern spotted owl is a lower-priority action than these types of work. Therefore, these higher-priority actions precluded reclassifying the owl in FY 2019, and the Service anticipates that they will continue to preclude work on reclassifying the owl in FY 2020 and the near future.

Expeditious Progress

As explained above, a determination that listing is warranted but precluded must also demonstrate that expeditious progress is being made to add and remove qualified species to and from the Lists. Please note that in the Code of Federal Regulations, the “Lists” are grouped as one list of endangered and threatened wildlife (50 CFR 17.11(h)) and one list of endangered and threatened plants (50 CFR 17.12(h)). However, the “Lists” referred to in the Act mean one list of endangered species (wildlife and plants) and one list of threatened species (wildlife and plants). Therefore, under the Act, expeditious progress includes actions to reclassify species—that is, either remove them from the list of threatened species and add them to the list of endangered species, or remove them from the list of endangered species and add them to the list of threatened species.

As with our “precluded” finding, the evaluation of whether expeditious progress is being made is a function of the resources available and the competing demands for those funds. As discussed earlier, the FY 2020 appropriations law included a spending cap of $20,318,000 for listing activities, and the FY 2019 appropriations law included a spending cap of $18,318,000 for listing activities.

As discussed below, given the limited resources available for listing, the competing demands for those funds, and the completed work catalogued in the tables below, we find that we are making expeditious progress in adding qualified species to the Lists.

The work of the Service's domestic listing program in FY 2019 and FY 2020 (as of September 30, 2020) includes all three of the steps necessary for adding species to the Lists: (1) Identifying species that may warrant listing (90-day petition findings); (2) undertaking an evaluation of the best available scientific data about those species and the threats they face to determine whether or not listing is warranted (a status review and accompanying 12-month finding); and (3) adding qualified species to the Lists (by publishing proposed and final listing rules). We explain in more detail how we are making expeditious progress in all three of the steps necessary for adding qualified species to the Lists (identifying, evaluating, and adding species). Subsequent to discussing our expeditious progress in adding qualified species to the Lists, we explain our expeditious progress in removing from the Lists species that no longer require the protections of the Act.

First, we are making expeditious progress in identifying species that may warrant listing. In FY 2019 and FY 2020 (as of September 30, 2020), we completed 90-day findings on petitions to list 14 species.

Second, we are making expeditious progress in evaluating the best scientific and commercial data available about species and threats they face (status reviews) to determine whether or not listing is warranted. In FY 2019 and FY 2020 (as of September 30, 2020), we completed 12-month findings for 69 species. In addition, we funded and worked on the development of 12-month findings for 34 species and proposed listing determinations for 9 candidates. Although we did not complete those actions during FY 2019 or FY 2020 (as of September 30, 2020), we made expeditious progress towards doing so by initiating and making progress on the status reviews to determine whether adding the species to the Lists is warranted.

Third, we are making expeditious progress in adding qualified species to the Lists. In FY 2019 and FY 2020 (as of September 30, 2020), we published final listing rules for 7 species, including final critical habitat designations for 1 of those species and final protective regulations under the Act's section 4(d) for 2 of the species. In addition, we published proposed rules to list an additional 20 species (including concurrent proposed critical habitat designations for 13 species and concurrent protective regulations under the Act's section 4(d) for 14 species).

The Act also requires that we make expeditious progress in removing species from the Lists that no longer require the protections of the Act. Specifically, we are making expeditious progress in removing (delisting) domestic species, as well as reclassifying endangered species to threatened species status (downlisting). This work is being completed under the Recovery program in light of the resources available for recovery actions, which are funded through the recovery line item in the budget of the Endangered Species Program. Because recovery actions are funded separately from listing actions, they do not factor into our assessment of preclusion; that is, work on recovery actions does not preclude the availability of resources for completing new listing work. However, work on recovery actions does count towards our assessment of making expeditious progress because the Act states that expeditious progress includes both adding qualified species to, and removing qualified species from, the Lists of Endangered and Threatened Wildlife and Plants. During FY 2019 and FY 2020 (as of September 30, 2020), we finalized downlisting of 1 species, finalized delisting rules for 7 species, proposed downlisting of 7 species, and proposed delisting of 11 species. The rate at which the Service has completed delisting and downlisting actions in FY 2019 and FY 2020 (as of September 30, 2020) is higher than any point in the history of the Act.

The tables below catalog the Service's progress in FY 2019 and FY 2020 (as of September 30, 2020) as it pertains to our evaluation of making expeditious progress. Table 1 includes completed and published domestic listing actions; Table 2 includes domestic listing actions funded and initiated in previous fiscal years and in FY 2020 that are not yet complete as of September 30, 2020; and Table 3 includes completed and published proposed and final downlisting and delisting actions for domestic species.

Table 1—Completed Domestic Listing Actions in FY 2019 and FY 2020
[As of September 30, 2020]
Publication date | Title | Action(s) | Federal Register citation
10/9/2018 | Threatened Species Status for Coastal Distinct Population Segment of the Pacific Marten | Proposed Listing— Threatened with Section 4(d) Rule and 12-Month Petition Finding | 83 FR 50574-50582
10/9/2018 | Threatened Species Status for Black-Capped Petrel With a Section 4(d) Rule | Proposed Listing— Threatened with Section 4(d) Rule and 12-Month Petition Finding | 83 FR 50560-50574
10/9/2018 | 12-Month Petition Finding and Threatened Species Status for Eastern Black Rail With a Section 4(d) Rule | Proposed Listing— Threatened with Section 4(d) Rule and 12-Month Petition Finding | 83 FR 50610-50630
10/9/2018 | Threatened Species Status With Section 4(d) Rule and Critical Habitat Designation for Slenderclaw Crayfish | Proposed Listing— Threatened with Section 4(d) Rule and Critical Habitat and 12-Month Finding | 83 FR 50582-50610
10/11/2018 | Threatened Species Status With Section 4(d) Rule and Critical Habitat Designation for Atlantic Pigtoe | Proposed Listing— Threatened with Section 4(d) Rule and Critical Habitat and 12-Month Finding | 83 FR 51570-51609
11/21/2018 | Endangered Species Status for the Candy Darter | Final Listing—Endangered | 83 FR 58747-58754
12/19/2018 | 12-Month Findings on Petitions to List 13 Species as Endangered or Threatened Species | 12-Month Petition Findings | 83 FR 65127-65134
12/28/2018 | Threatened Species Status for Trispot Darter | Final Listing—Threatened | 83 FR 67131-67140
4/4/2019 | 12-Month Findings on Petitions to List Eight Species as Endangered or Threatened Species | 12-Month Petition Findings | 84 FR 13237-13242
4/4/2019 | 12-Month Petition Finding and Endangered Species Status for the Missouri Distinct Population Segment of Eastern Hellbender | Proposed Listing— Endangered and 12-Month Petition Finding | 84 FR 13223-13237
4/26/2019 | 90-Day Findings for Four Species (3 domestic species and 1 foreign species)* | 90-Day Petition Findings | 84 FR 17768-17771
5/22/2019 | Threatened Species Status with Section 4(d) Rule for Neuse River Waterdog and Endangered Species Status for Carolina Madtom and Proposed Designations of Critical Habitat | Proposed Listings—Threatened Status with Section 4(d) Rule with Critical Habitat; Endangered Status with Critical Habitat and 12-Month Petition Findings | 84 FR 23644-23691
8/13/2019 | Endangered Species Status for Franklin's Bumble Bee | Proposed Listing—Endangered and 12-Month Petition Finding | 84 FR 40006-40019
8/15/2019 | 12-Month Findings on Petitions to List Eight Species as Endangered or Threatened Species | 12-Month Petition Findings | 84 FR 41694-41699
8/15/2019 | 90-Day Findings for Three Species | 90-Day Petition Findings | 84 FR 41691-41694
9/6/2019 | 90-Day Findings for Three Species | 90-Day Petition Findings | 84 FR 46927-46931
10/07/2019 | Twelve Species Not Warranted for Listing as Endangered or Threatened Species | 12-Month Petition Findings | 84 FR 53336-53343
10/21/2019 | Endangered Species Status for Barrens Topminnow | Final Listing—Endangered | 84 FR 56131-56136
11/08/2019 | 12-Month Finding for the California Spotted Owl | 12-Month Petition Finding | 84 FR 60371-60372
11/21/2019 | Threatened Species Status for Meltwater Lednian Stonefly and Western Glacier Stonefly With a Section 4(d) Rule | Final Listing—Threatened with Section 4(d) Rule | 84 FR 64210-64227
12/06/2019 | Endangered Species Status for Beardless Chinchweed With Designation of Critical Habitat, and Threatened Species Status for Bartram's Stonecrop With Section 4(d) Rule | Proposed Listings —Endangered with Critical Habitat; Threatened with Section 4(d) Rule and 12-Month Petition Findings | 84 FR 67060-67104
12/19/2019 | Five Species Not Warranted for Listing as Endangered or Threatened Species | 12-Month Petition Findings | 84 FR 69707-69712
12/19/2019 | 90-Day Findings for Two Species | 90-Day Petition Findings | 84 FR 69713-69715
01/08/2020 | Threatened Species Status for the Hermes Copper Butterfly With 4(d) Rule and Designation of Critical Habitat | Proposed Listing—Threatened with Section 4(d) Rule and Critical Habitat | 85 FR 1018-1050
01/08/2020 | Endangered Status for the Sierra Nevada Distinct Population Segment of the Sierra Nevada Red Fox | Proposed Listing—Endangered | 85 FR 862-872
05/05/2020 | Endangered Status for the Island Marble Butterfly and Designation of Critical Habitat | Final Listing—Endangered with Critical Habitat | 85 FR 26786-26820
05/15/2020 | Endangered Species Status for Southern Sierra Nevada Distinct Population Segment of Fisher | Final Listing—Endangered | 85 FR 29532-29589
7/16/2020 | 90-Day Finding for the Dunes Sagebrush Lizard | 90-Day Petition Finding | 85 FR 43203-43204
7/22/2020 | 90-Day Findings for Two Species | 90-Day Petition Findings | 85 FR 44265-44267
7/23/2020 | Four Species Not Warranted for Listing as Endangered or Threatened Species | 12-Month Petition Findings | 85 FR 44478-44483
8/26/2020 | Endangered Species Status for Marron Bacora and Designation of Critical Habitat | Proposed Listing-Endangered with Critical Habitat and 12-Month Petition Finding | 85 FR 52516-52540
9/1/2020 | Two Species Not Warranted for Listing as Endangered or Threatened Species | 12-Month Petition Findings | 85 FR 54339-54342
9/16/2020 | Findings on a Petition To Delist the Distinct Population Segment of the Western Yellow-Billed Cuckoo and a Petition To List the U.S. Population of Northwestern Moose** | 12-Month Petition Finding | 85 FR 57816-57818
9/17/2020 | Threatened Species Status for Chapin Mesa milkvetch and Section 4(d) Rule with Designation of Critical Habitat | Proposed Listing-Threatened With Section 4(d) Rule and Critical Habitat | 85 FR 58224-58250
9/17/2020 | Threatened Species Status for Big Creek crayfish and St. Francis River Crayfish and With Section 4(d) Rule with Designation of Critical Habitat | Proposed Listings-Threatened With Section 4(d) Rule and Critical Habitat | 85 FR 58192-58222
9/29/2020 | Threatened Species Status for longsolid and round hickorynut mussel and Section 4(d) Rule With Designation of Critical Habitat, Not Warranted 12-Month Finding for purple Lilliput | Proposed Listings-Threatened With Section 4(d) Rule and Critical Habitat; 12-Month Petition Findings | 85 FR 61384-61458
9/29/2020 | Threatened Species Status for Wright's Marsh Thistle and Section 4(d) Rule With Designation of Critical Habitat | Proposed Listing-Threatened With Section (4) Rule and Critical Habitat | 85 FR 61460-61498
* 90-day finding batches may include findings regarding both domestic and foreign species. The total number of 90-day findings reported in this assessment of expeditious progress pertains to domestic species only.
** Batched 12-month findings may include findings regarding listing and delisting petitions. The total number of 12-month findings reported in this assessment of expeditious progress pertains to listing petitions only.

Table 2—Domestic Listing Actions Funded and Initiated in Previous FYs and in FY 2020 That Are Not Yet Complete as of September 30, 2020
Species | Action
northern spotted owl | 12-month finding.
false spike | 12-month finding.
Guadalupe fatmucket | 12-month finding.
Guadalupe orb | 12-month finding.
Texas fatmucket | Proposed listing determination or not warranted finding.
Texas fawnsfoot | Proposed listing determination or not warranted finding.
Texas pimpleback | Proposed listing determination or not warranted finding.
South Llano Springs moss | 12-month finding.
peppered chub | 12-month finding.
whitebark pine | Proposed listing determination or not warranted finding.
Key ringneck snake | 12-month finding.
Rimrock crowned snake | 12-month finding.
Euphilotes ancilla cryptica | 12-month finding.
Euphilotes ancilla purpura | 12-month finding.
Hamlin Valley pyrg | 12-month finding.
longitudinal gland pyrg | 12-month finding.
sub-globose snake pyrg | 12-month finding.
Louisiana pigtoe | 12-month finding.
Texas heelsplitter | 12-month finding.
triangle pigtoe | 12-month finding.
prostrate milkweed | 12-month finding.
alligator snapping turtle | 12-month finding.
Black Creek crayfish | 12-month finding.
bracted twistflower | Proposed listing determination or not warranted finding.
Canoe Creek clubshell | 12-month finding.
Clear Lake hitch | 12-month finding.
Doll's daisy | 12-month finding.
frecklebelly madtom | 12-month finding.
longfin smelt (San Francisco Bay-Delta DPS) | Proposed listing determination or not warranted finding.
magnificent Ramshorn | Proposed listing determination or not warranted finding.
Mt. Rainier white-tailed ptarmigan | 12-month finding.
Ocmulgee skullcap | 12-month finding.
Penasco least chipmunk | Proposed listing determination or not warranted finding.
Puerto Rico harlequin butterfly | Proposed listing determination or not warranted finding.
Puget oregonian snail | 12-month finding.
relict dace | 12-month finding.
Rocky Mountain monkeyflower | 12-month finding.
sickle darter | 12-month finding.
southern elktoe | 12-month finding.
southern white-tailed ptarmigan | 12-month finding.
tidewater amphipod | 12-month finding.
tufted puffin | 12-month finding.
western spadefoot | 12-month finding.

Table 3—Completed Domestic Recovery Actions (Proposed and Final Downlistings and Delistings) in FY 2019 and FY 2020
[As of September 30, 2020]
Publication date | Title | Action(s) | Federal Register citation
10/18/2018 | Removing Deseret Milkvetch (Astragalus desereticus) From the Federal List of Endangered and Threatened Plants | Final Rule—Delisting | 83 FR 52775-52786
02/26/2019 | Removing the Borax Lake Chub From the List of Endangered and Threatened Wildlife | Proposed Rule—Delisting | 84 FR 6110-6126
03/15/2019 | Removing the Gray Wolf (Canis lupus) From the List of Endangered and Threatened Wildlife | Proposed Rule—Delisting | 84 FR 9648-9687
05/03/2019 | Reclassifying the American Burying Beetle From Endangered to Threatened on the Federal List of Endangered and Threatened Wildlife With a 4(d) Rule | Proposed Rule—Downlisting | 84 FR 19013-19029
08/27/2019 | Removing Trifolium stoloniferum (Running Buffalo Clover) From the Federal List of Endangered and Threatened Plants | Proposed Rule—Delisting | 84 FR 44832-44841
09/13/2019 | Removing the Foskett Speckled Dace From the List of Endangered and Threatened Wildlife | Final Rule—Delisting | 84 FR 48290-48308
10/03/2019 | Removal of the Monito Gecko (Sphaerodactylus micropithecus) From the Federal List of Endangered and Threatened Wildlife | Final Rule—Delisting | 84 FR 52791-52800
10/07/2019 | Removal of Howellia aquatilis (Water Howellia) From the List of Endangered and Threatened Plants | Proposed Rule—Delisting | 84 FR 53380-53397
10/09/2019 | Removing the Kirtland's Warbler From the Federal List of Endangered and Threatened Wildlife | Final Rule—Delisting | 84 FR 54436-54463
10/24/2019 | Removal of the Interior Least Tern From the Federal List of Endangered and Threatened Wildlife | Proposed Rule—Delisting | 84 FR 56977-56991
11/05/2019 | Removing Oenothera coloradensis (Colorado Butterfly Plant) From the Federal List of Endangered and Threatened Plants | Final Rule—Delisting | 84 FR 59570-59588
11/26/2019 | Removing Bradshaw's Lomatium From the Federal List of Endangered and Threatened Plants | Proposed Rule—Delisting | 84 FR 65067-65080
11/26/2019 | Removal of the Nashville Crayfish From the Federal List of Endangered and Threatened Wildlife | Proposed Rule—Delisting | 84 FR 65098-65112
11/26/2019 | Reclassification of the Endangered June Sucker to Threatened With a Section 4(d) Rule | Proposed Rule—Downlisting | 84 FR 65080-65098
12/19/2019 | Reclassifying the Hawaiian Goose From Endangered to Threatened With a Section 4(d) Rule | Final Rule—Downlisting | 84 FR 69918-69947
01/02/2020 | Removing the Hawaiian Hawk From the Federal List of Endangered and Threatened Wildlife | Final Rule—Delisting | 85 FR 164-189
01/06/2020 | Removing the Kanab Ambersnail From the List of Endangered and Threatened Wildlife | Proposed Rule—Delisting | 85 FR 487-492
01/22/2020 | Reclassification of the Humpback Chub From Endangered to Threatened With a Section 4(d) Rule | Proposed Rule—Downlisting | 85 FR 3586-3601
03/10/2020 | Removing Lepanthes eltoroensis From the Federal List of Endangered and Threatened Plants | Proposed Rule—Delisting | 85 FR 13844-13856
04/27/2020 | Removing Arenaria cumberlandensis (Cumberland Sandwort) From the Federal List of Endangered and Threatened Plants | Proposed Rule—Delisting | 85 FR 23302-23315
06/01/2020 | Removing San Benito Evening-Primrose (Camissonia benitensis) From the Federal List of Endangered and Threatened Plants | Proposed Rule—Delisting | 85 FR 33060-33078
06/11/2020 | Removing the Borax Lake Chub From the List of Endangered and Threatened Wildlife | Final Rule—Delisting | 85 FR 35574-35594
7/24/2020 | Reclassification of Morro Shoulderband Snail (Helminthoglypta walkeriana) From Endangered to Threatened With a 4(d) Rule | Proposed Rule—Downlisting | 85 FR 44821-44835
8/19/2020 | Reclassification of Stephens' Kangaroo Rat From Endangered To Threatened With a Section 4(d) Rule | Proposed Rule—Downlisting | 85 FR 50991-51006
9/30/2020 | Reclassficiation of beach layia (Layia carnosa) From Endangered To Threatened With a Section 4(d) Rule | Proposed Rule—Downlisting | 85 FR 61684-61700
9/30/2020 | Reclassification of Virgin Islands Tree Boa From Endangered to Threatened With a Section 4(d) Rule | Proposed Rule—Downlisting | 85 FR 61700-61717

When a petitioned action is found to be warranted but precluded, the Service is required by the Act to treat the petition as resubmitted on an annual basis until a proposal or withdrawal is published. If the petitioned species is not already listed under the Act, the species becomes a “candidate” and is reviewed annually in the “candidate notice of review” (CNOR). The number of candidate species remaining in FY 2020 is the lowest it has been since 1975. For these species, we are working on developing a species status assessment, preparing proposed listing determinations, or preparing not-warranted 12-month findings.

Another way that we have been expeditious in making progress in adding and removing qualified species to and from the Lists is that we have made our actions as efficient and timely as possible, given the requirements of the Act and regulations and constraints relating to workload and personnel. We are continually seeking ways to streamline processes or achieve economies of scale, such as batching related actions together for publication. Given our limited budget for implementing section 4 of the Act, these efforts also contribute toward our expeditious progress in adding and removing qualified species to and from the Lists.

The northern spotted owl will remain listed as a threatened species, and we will continue to evaluate this subspecies as new information becomes available. Continuing review will determine if a change in status is warranted, including the need to make prompt use of emergency listing procedures.

Under 50 CFR 17.31(a), threatened wildlife added to the List of Endangered and Threatened Wildlife on or prior to September 26, 2019, are provided all provisions of 50 CFR 17.21 for endangered wildlife, except 50 CFR 17.21(c)(5). The northern spotted owl was granted the protections of an endangered species at the time it was listed as a threatened species in 1990 (55 FR 26114-26194). Therefore, we conclude that reclassification will not provide any additional protections for the species as it already receives the protections of the provisions of 50 CFR 17.21 for endangered wildlife.

A detailed discussion of the basis for this finding can be found in the northern spotted owl species status report and other supporting documents (see ADDRESSES, above). A detailed discussion of the basis for this finding can be found in the northern spotted owl species assessment and other supporting documents (see ADDRESSES, above).

New Information

We intend that any proposed reclassification for the northern spotted owl will be as accurate as possible. Therefore, we will continue to accept additional information and comments from all concerned governmental agencies, the scientific community, industry, or any other interested party concerning this finding. We request that you submit any new information concerning the taxonomy of, biology of, ecology of, status of, or threats to the northern spotted owl to the person specified under FOR FURTHER INFORMATION CONTACT, whenever it becomes available. New information will help us monitor this subspecies and make appropriate decisions about its conservation and status. We encourage local agencies and stakeholders to continue cooperative monitoring and conservation efforts.

Authors

The primary authors of this document are the staff members of the Fish and Wildlife Service's Species Assessment Team.

Authority

The authority for this action is section 4 of the Endangered Species Act of 1973, as amended (16 U.S.C. 1531 et seq.).

Aurelia Skipwith,
Director, U.S. Fish and Wildlife Service.

[FR Doc. 2020-27198 Filed 12-14-20; 8:45 am]

BILLING CODE 4333-15-P